ENVIRONMENTAL PROTECTION AGENCY

40 CFR Part 52

[MD042-3051; FRL-6838-3]

Approval and Promulgation of Air Quality Implementation Plans; Maryland; Approval of Revisions to COMAR 26.11.12 Control of Batch Type Hot-Dip Galvanizing Installations

AGENCY: Environmental Protection Agency (EPA).

ACTION: Direct final rule.

SUMMARY: EPA is approving revisions to the Maryland regulations regarding batch type hot-dip galvanizing installations. The revisions effect the fluxing process at these facilities and the changes allow more flexibility in controlling particulate matter emissions while maintaining the same opacity limit on this process. These revisions were submitted by the State of Maryland, Department of the Environment (MDE) as a revision to its State Implementation Plan (SIP) on July 17, 1995.

DATES: This rule is effective on September 25, 2000 without further notice, unless EPA receives adverse written comment by August 24, 2000. If EPA receives such comments, it will publish a timely withdrawal of the direct final rule in the Federal Register and inform the public that the rule will not take effect.

ADDRESSES: Written comments should be mailed to Ms. Makeba A. Morris, Chief, Technical Assessment Branch, Mailcode 3AP22, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and Maryland Department of the Environment, 2500 Broening Highway, Baltimore, Maryland, 21224.

FOR FURTHER INFORMATION CONTACT: Ruth E. Knapp, (215) 814-2191, or by e-mail at knapp.ruth@epamail.epa.gov.

SUPPLEMENTARY INFORMATION: Throughout this document wherever “we,” “us” or “our” are used we mean EPA.

Table of Contents

I. What Is EPA Approving?

II. What Facilities/Operations Does This Action Apply To?

III. What Are The Provisions of the Revised Regulation?

IV. What Are The Current Limits on These Sources?

V. What Supporting Material Did Maryland Provide?

VI. What Are the Environmental Effects of this Action?

VII. EPA Rulemaking Action.

VIII. Administrative Requirements.

I. What Is the EPA Approving?

We are approving, as a SIP revision, changes made to the regulations that are related to batch type hot-dip galvanizing installations. These facilities perform finishing techniques on metals. In order to protect metals, such as steel, from corrosion, chemical coatings are applied. There are usually three steps in the hot dip process: surface preparation, fluxing, and galvanizing. The changes being made to the regulation effect the fluxing portion of the process. The revisions allow particulate emissions from fluxing to be controlled using a pollution control device. The revisions were submitted as a SIP revision to EPA on July 17, 1995. The changes allow these facilities to meet the current opacity limit by installing control equipment instead of imposing limits on materials used during fluxing.

II. What Facilities/Operations Does This Action Apply To?

We are approving revisions to a portion of the regulations that only apply to batch type hot-dip galvanizing operations. These facilities perform finishing techniques on metals and apply coatings to help protect the metal products from corrosion. Only these types of facilities are effected by the revisions. There are no new requirements for these facilities.

III. What Are the Provisions of the Revised Regulations?

The revised regulations allow more flexibility for these facilities to meet the 20% opacity limit contained in COMAR 26.11.12.04. The revisions allow a facility to install pollution control equipment to meet the applicable opacity limit instead of maintaining limits on the fluxing process. The revision provides that MDE must approve the use of the control device. If MDE approves the selection of a federally approved control device, no further action is required between MDE and us. However, if MDE approves the use of a non-federally approved control device then MDE must submit a source specific SIP revision to us so that use of the device can be federally approved. This additional step is required since there is no documented process provided in the regulation indicating how MDE will determine when a control device may be used in these situations. We view this revision as potentially allowing the selection of an alternative method of pollution control which has not been federally delegated to MDE.

IV. What Are the Current Limits on These Sources?

All batch type hot-dip galvanizing operations are prohibited from using ammonium chloride in prefluxes and top fluxes except where it is contained in a prepackaged flux compound of which the ammonium chloride content does not exceed 69 percent. The facilities are also prohibited from applying a flux to a galvanized end product.

V. What Supporting Material Did Maryland Provide?

Maryland provided information pertaining to the current regulation and the possible use of a control device. Visible emission limits are usually met by restrictions on the flux process which is generally uncontrolled. MDE indicates that use of a baghouse for control of particulate pollution may be a possible alternative to existing process limitations. This change provides an opportunity for operational flexibility but does not mandate require any changes at existing facilities.

VI. What Are the Environmental Effects of This Action?

Visible emission limitations are not being revised. Therefore, this action should not have an adverse impact on air quality. This action provides industry with additional flexibility to meet existing air pollution limits.

VII. EPA Rulemaking Action

We are approving, through direct final rulemaking, revisions to Maryland's batch type hot-dip galvanizing regulations. The revisions pertain to the manner in which a source may comply with the current opacity limits. We are publishing this action without prior proposal because we view this as a noncontroversial revision and anticipate no adverse comments. However, in a separate document in the “Proposed Rules” section of today's Federal Register, we are publishing a separate document that will serve as the proposal to approve the SIP revision if adverse comments are filed. This rule will be effective on September 25, 2000 without further notice unless we receive adverse comment by August 24, 2000. Should we receive such comments, we will publish a timely withdrawal in the Federal Register informing the public that the rule will not take effect. We will address all public comments in a subsequent final rule based on the proposed rule. We will not institute a second comment period on this action. Any parties interested in commenting on this action must do so at this time.

VIII. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings'' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2). This action effect batch type hot-dip galvanizing installations in Maryland only.

C. Petitions for Judicial Review

Under section 307(b)(1) of the Clean Air Act, petitions for judicial review of this action must be filed in the United States Court of Appeals for the appropriate circuit by September 25, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).) This action only effects batch type hot-dip galvanizing installations in Maryland.

List of Subjects in 40 CFR Part 52

Environmental protection, Air pollution control, Incorporation by reference, Particulate matter, Reporting and recordkeeping requirements.

Dated: July 1, 2000.
Bradley M. Campbell,
Regional Administrator, Region III.

40 CFR part 52 is amended as follows:

PART 52—[AMENDED]

1. The authority citation for part 52 continues to read as follows:

Authority: 42 U.S.C. 7401 et seq.

Subpart 52.1070—Maryland

2. Section 52.1070 is amended by adding paragraphs (c)(149) to read as follows:

§ 52.1070 Identification of plan.

* * * * *

(c) * * *

(149) Revisions to the Maryland Regulations related to use of pollution control devices in COMAR 26.11.12 Control of Batch Type Hot-Dip Galvanizing Installations submitted on July 17, 1995 by the Maryland Department of the Environment:

(i) Incorporation by reference.

(A) Letter of July 17, 1995 from the Maryland Department of the Environment to Mr. Stanley Laskowski of EPA transmitting revisions to COMAR 26.11.12 Control of Batch Type Hot-Dip Galvanizing Installations related to use of control equipment to meet visible emission limitations.

(B) Revision to COMAR 26.11.12 Control of Batch Type Hot-Dip Galvanizing Installations related to use of control equipment to meet visible emission limitations. Revisions were effective on May 8, 1995.

(ii) Additional Material.—Remainder of July 17, 1995, submittal related to COMAR 26.11.12 Control of Batch Type Hot-Dip Galvanizing Installations and the use of pollution control equipment to meet visible emission limitations.

[FR Doc. 00-18528 Filed 7-24-00; 8:45 am]

BILLING CODE 6560-50-P